DEPARTMENT OF COMMERCE

International Trade Administration

[A-469-805]

Stainless Steel Bar From Spain: Preliminary Results of Antidumping Duty Administrative Review; 2017-2018

AGENCY: Enforcement and Compliance, International Trade Administration, Department of Commerce.

SUMMARY: The Department of Commerce (Commerce) preliminarily finds that Sidenor Aceros Especiales S.L. (Sidenor), the sole exporter subject to this administrative review has made sales of subject merchandise at less than normal value during the period of review (POR) March 1, 2017, through August 8, 2017. We invite interested parties to comment on these preliminary results.

DATES: Applicable December 10, 2018.

FOR FURTHER INFORMATION CONTACT: Trenton Duncan or Kabir Archuletta, AD/CVD Operations, Office V, Enforcement and Compliance, International Trade Administration, U.S. Department of Commerce, 1401 Constitution Avenue NW, Washington, DC 20230; telephone: (202) 482-5260 or (202) 482-2593, respectively.

SUPPLEMENTARY INFORMATION:

Background

Commerce is conducting an administrative review of the antidumping duty order on stainless steel sar (SSB) from Spain, in accordance with section 751(a)(1)(B) of the Tariff Act of 1930, as amended (the Act).¹ The review covers one producer/exporter of the subject merchandise, Sidenor. When the review was initiated, the period of review (POR) was March 1, 2017, through Febrary 28, 2018. However, on October 3, 2018, as a result of a five-year (sunset) review, Commerce revoked the antidumping duty order on imports of stainless steel bar (SSB) from Spain, effective August 9, 2017.² As a result, the POR was revised to March 1, 2017, through August 8, 2017.³

¹ See Amended Final Determination and Antidumping Duty Order: Stainless Steel Bar From Spain, 60 FR 11656 (March 2, 1995) (Order).

² See Stainless Steel Bar from Brazil, India, Japan, and Spain: Continuation of Antidumping Duty Order (India) and Revocation of Antidumping Duty Orders (Brazil, Japan, and Spain), 83 FR 49910 (October 3, 2018) (Revocation Notice).

³ Id.

Scope of the Order

The merchandise subject to the order is SSB. The SSB subject to the order is currently classifiable under subheadings 7222.10.00, 7222.11.00, 7222.19.00, 7222.20.00, 7222.30.00 of the Harmonized Tariff Schedule of the United States (HTSUS). While the HTSUS subheadings are provided for convenience and customs purposes, the written description is dispositive. A full description of the scope of the order is contained in the Preliminary Decision Memorandum.⁴

⁴ See Memorandum, “Decision Memorandum for the Preliminary Results of Antidumping Duty Administrative Review: Stainless Steel Bar from Spain; 2017-2018,” dated concurrently with this notice (Preliminary Decision Memorandum).

Methodology

Commerce is conducting this review in accordance with section 751(a)(2) of the Act. Constructed export price and export price were calculated in accordance with section 772 of the Act. Normal value was calculated in accordance with section 773 of the Act. For a full description of the methodology underlying our conclusions, see Preliminary Decision Memorandum. The Preliminary Decision Memorandum is a public document and is made available to the public via Enforcement and Compliance's Antidumping and Countervailing Duty Centralized Electronic Service System (ACCESS). ACCESS is available to registered users at http://access.trade.gov and to all parties in Commerce's Central Records Unit, located at room B8024 of the main Department of Commerce building. In addition, a complete version of the Preliminary Decision Memorandum can be found at http://enforcement.trade.gov/frn/index.html. A list of the topics discussed in the Preliminary Decision Memorandum is attached at the Appendix to this notice.

Preliminary Results of Review

As a result of this review, we preliminarily determine that the following weighted-average dumping margin exists for Sidenor for the period March 1, 2017, through August 8, 2017.

Producer/exporter | Weighted-average dumping margin (percent)
Sidenor Aceros Especiales, S.L. | 1.76

Disclosure

We intend to disclose the calculations performed to parties in this proceeding within five days after public announcement of the preliminary results.⁵

⁵ See 19 CFR 351.224(b).

Public Comment

Pursuant to 19 CFR 351.309(c), interested parties may submit case briefs no later than 30 days after the date of publication of this notice. Rebuttal briefs, limited to issues raised in the case briefs, may be filed no later than five days after the date for filing case briefs.⁶ Parties who submit case briefs or rebuttal briefs in this proceeding are encouraged to submit with each argument: (1) A statement of the issue; (2) a brief summary of the argument; and (3) a table of authorities.⁷

⁶ See 19 CFR 351.309(d).

⁷ See 19 CFR 351.303 (for general filing requirements).

Pursuant to 19 CFR 351.310(c), interested parties who wish to request a hearing must submit a written request to the Assistant Secretary for Enforcement and Compliance. All documents must be filed electronically using ACCESS, which is available to registered users at http://access.trade.gov. An electronically filed request must be received successfully in its entirety by ACCESS by 5:00 p.m. Eastern Time, within 30 days after the date of publication of this notice.⁸ Requests should contain: (1) The party's name, address and telephone number; (2) the number of participants; and (3) a list of issues to be discussed. Issues raised in the hearing will be limited to those raised in the respective case briefs.

⁸ See 19 CFR 351.310(c).

Commerce intends to issue the final results of this administrative review, including the results of its analysis of the issues raised in any written briefs, no later than 120 days after the date of publication of this notice, unless extended, pursuant to section 751(a)(3)(A) of the Act and 19 CFR 351.213(h)(1) and (2).

Assessment Rates

Upon issuance of the final results, Commerce shall determine and U.S. Customs and Border Protection (CBP) shall assess antidumping duties on all appropriate entries covered by this revised POR. If Sidenor's weighted-average dumping margin continues to be above de minimis in the final results of this review, we will calculate importer-specific assessment rates based on the ratio of the total amount of antidumping duties calculated for each importer's examined sales and the total entered value of the sales in accordance with 19 CFR 351.212(b)(1).⁹ If Sidenor's weighted-average dumping margin is zero or de minimis in the final results of this review, we will instruct CBP not to assess duties on any of its entries in accordance with the Final Modification for Reviews.¹⁰

⁹ In these preliminary results, Commerce applied the assessment rate calculation method adopted in Antidumping Proceedings: Calculation of the Weighted-Average Dumping Margin and Assessment Rate in Certain Antidumping Duty Proceedings; Final Modification, 77 FR 8101 (February 14, 2012) (Final Modification for Reviews).

¹⁰ See Final Modification for Reviews, 77 FR at 8102.

For entries of subject merchandise during the POR produced by Sidenor for which it did not know its merchandise was destined for the United States, we will instruct CBP to liquidate unreviewed entries at the all-others rate if there is no rate for the intermediate company or companies involved in the transaction.

We intend to issue instructions to CBP 15 days after publication of the final results of this review.

Cash Deposit Requirements

In the Revocation Notice, Commerce stated that it would issue instructions to CBP to terminate the suspension of liquidation and to discontinue the collection of cash deposits on entries of subject merchandise, entered or withdrawn from warehouse, on or after August 9, 2017.¹¹ On October 19, 2018, Commerce issued liquidation instructions to CBP.¹² Furthermore, because the antidumping duty order on SSB from Spain has been revoked as a result of the Revocation Notice, Commerce will not issue cash deposit instructions at the conclusion of this administrative review.

¹¹ See Revocation Notice, 83 FR at 49911.

¹² See Commerce Letter re: Sunset Revocation of Antidumping Duty Orders—U.S. Customs and Border Protection (CBP) Liquidation Instructions, dated November 26, 2018.

Notification to Importers

This notice serves as a preliminary reminder to importers of their responsibility under 19 CFR 351.402(f)(2) to file a certificate regarding the reimbursement of antidumping duties prior to liquidation of the relevant entries during this POR. Failure to comply with this requirement could result in the Secretary's presumption that reimbursement of antidumping duties occurred and the subsequent assessment of double antidumping duties.

We are issuing and publishing these results in accordance with sections 751(a)(1) and 777(i)(1) of the Act and 19 CFR 351.213(h)(1) and 351.221(b)(4).

Dated: December 3, 2018.
Gary Taverman,
Deputy Assistant Secretary for Antidumping and Countervailing Duty Operations, performing the non-exclusive functions and duties of the Assistant Secretary for Enforcement and Compliance.

Appendix

List of Topics Discussed in the Preliminary Decision Memorandum

I. Summary

II. Background

III. Period of Review

IV. Scope of the Order

V. Discussion of the Methodology

(1) Comparisons to Normal Value

A. Determination of Comparison Method

B. Results of the Differential Pricing Analysis

(2) Product Comparisons

(3) Date of Sale

(4) Level of Trade/CEP Offset

(5) Export Price

(6) Normal Value

A. Home Market Viability and Comparison Market

B. Cost of Production

1. Calculation of Cost of Production

2. Test of Comparison Market Sales Prices

3. Results of the COP Test

C. Calculation of Normal Value Based on Comparison Market Prices

D. Price-to-Constructed Value Comparison

VI. Currency Conversion

VII. Recommendation

[FR Doc. 2018-26650 Filed 12-7-18; 8:45 am]

BILLING CODE 3510-DS-P